Proclamation 8604 of November 19, 2010

National Child’s Day, 2010

By the President of the United States of America

A Proclamation

On National Child’s Day, we celebrate America’s children and rededicate ourselves to helping them reach for their dreams and realize their full potential. To build a strong foundation for our children’s future, we must support their health and development and ensure that they receive a high-quality education that will prepare them to lead in the 21st century.

My Administration is committed to caring for our Nation’s most precious resource: our children. I was proud to sign the Affordable Care Act into law, which expands families’ health insurance options and requires new plans to cover recommended preventive services—including well-baby and well-child visits and essential immunizations and vaccinations—with no out-of-pocket costs. It also prohibits insurance companies from using a pre-existing condition as a reason to deny health care coverage to children as of this year, and to all Americans in 2014. Additionally, through the “Let’s Move!” Initiative, First Lady Michelle Obama is helping lead our effort to end the epidemic of childhood obesity within a generation by encouraging healthy eating and physical activity.

We must also invest in our Nation’s future by investing in our children’s education, for it is both a key to success and a prerequisite to opportunity. Early childhood education programs can greatly influence learning capabilities later in life, and my Administration is working to expand these programs and improve their quality. Teachers are the most important resource to a child’s learning, and countless children benefit from the experience and enthusiasm that teachers bring to the classroom. These individuals instill in our youth the knowledge that will enable them to grow into active and engaged adults. Through such care and guidance—and a greater effort by all to provide safe, supportive spaces for our children, free of bullying and harassment—we will unlock the promise within each child.

Our children will soon stand at the helm of America and steer its course. This Child’s Day, let us recommit to instilling the values, vision, and knowledge that will allow our children to realize a future of opportunity and prosperity.

NOW, THEREFORE, I, BARACK OBAMA, President of the United States of America, by virtue of the authority vested in me by the Constitution and the laws of the United States, do hereby proclaim November 20, 2010, as National Child’s Day. I call upon all citizens to observe this day with appropriate activities, programs, and ceremonies, and to rededicate ourselves to creating the bright future we want for our Nation’s children.

IN WITNESS WHEREOF, I have hereunto set my hand this nineteenth day of November, in the year of our Lord two thousand ten, and of the Independence of the United States of America the two hundred and thirty-fifth.

[FR Doc. 2010-29798

Filed 11-23-10; 8:45 am]

Billing code 3195-W1-P